DEPARTMENT OF DEFENSE

Office of the Secretary

Meeting of the Defense Advisory Committee on Women in the Services (DACOWITS)

AGENCY: Department of Defense.

ACTION: Notice.

SUMMARY: Pursuant to Section 10(a), Public Law 92-463, as amended, notice is hereby given of a forthcoming meeting of the Defense Advisory Committee on Women in the Services (DACOWITS). The purpose of the meeting is to introduce and swear in six new members to the Committee. Also, the Committee will receive briefings from the Services on representation of women at the Service Academies, and receive an update from the Joint Staff on the Women in Service Review. Additionally, the Navy will provide a briefing on the Sexual Assault Prevention Program at Naval Station Great Lakes, and the Sexual Assault and Prevention Office will brief on the Annual Report on Sexual Harassment and Violence at the Military Service Academies. The meeting is open to the public, subject to the availability of space.

DATES: March 14, 2013, from 8:00 a.m. to 2:30 p.m.; March 15, 2013, from 8:00 a.m. to 11:30 a.m.

ADDRESSES: Embassy Suites Hotel, 1300 Jefferson Davis Hwy, Arlington, VA 22202.

FOR FURTHER INFORMATION CONTACT: Mr. Robert Bowling or DACOWITS Staff at 4000 Defense Pentagon, Room 5A734, Washington, DC 20301-4000. Robert.bowling@osd.mil Telephone (703) 697-2122. Fax (703) 614-6233.

SUPPLEMENTARY INFORMATION: Interested persons may submit a written statement for consideration by the Defense Advisory Committee on Women in the Services. Individuals submitting a written statement must submit their statement to the Point of Contact listed at the address detailed in FOR FURTHER INFORMATION CONTACT no later than 5:00 p.m., Tuesday, March 12, 2013. If a written statement is not received by Tuesday, March 12, 2013, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement should be submitted as above. After reviewing the written comments, the Chairperson and the Designated Federal Officer will determine who of the requesting persons will be able to make an oral presentation of their issue during an open portion of this meeting or at a future meeting. Determination of who will be making an oral presentation is at the sole discretion of the Committee Chair and the Designated Federal Officer and will depend on time available and if the topics are relevant to the Committee's activities. Two minutes will be allotted to persons desiring to make an oral presentation. Oral presentations by members of the public will be permitted only on Friday, March 15, 2013 from 11:00 a.m. to 11:30 a.m. in front of the full Committee. Number of oral presentations to be made will depend on the number of requests received from members of the public.

Meeting Agenda

Thursday, March 14, 2013, 8:00 a.m.-2:30 p.m.

—Welcome, Introductions, Announcements, Swearing In

—Briefing—Request for Information Update

—Briefing—Representation of Women at the Service Academies Briefings from Services

—Briefing—Women in the Services Review Update

Friday, March 15, 2013, 8:00 a.m.-11:30 a.m.

—Announcements

—Briefing—Sexual Assault Prevention Program at Naval Station Great Lakes

—Briefing—Annual Report on Sexual Harassment and Violence at the Military Service Academies

—Public Comment Period

Dated: February 21, 2013.
Aaron Siegel,
Alternate OSD Federal Register Liaison Officer, Department of Defense.

[FR Doc. 2013-04388 Filed 2-25-13; 8:45 am]

BILLING CODE 5001-06-P